ENVIRONMENTAL PROTECTION AGENCY

[EPA-R09-OAR-2013-0168; FRL-9792-5]

Adequacy Status of Motor Vehicle Emissions Budgets in Submitted Ozone Maintenance Plan for San Diego County; California

AGENCY: Environmental Protection Agency (EPA).

ACTION: Notice of adequacy.

SUMMARY: In this notice, EPA is notifying the public that the Agency has found that the motor vehicle emissions budgets (MVEBs) for ozone for the years 2020 and 2025 in the Redesignation Request and Maintenance Plan for the 1997 National Ozone Standard for San Diego County (December 2012) (“San Diego Ozone Redesignation Request and Maintenance Plan”) are adequate for transportation conformity purposes. The San Diego Redesignation Request and Ozone Maintenance Plan was submitted to EPA on December 28, 2012 by the California Air Resources Board (CARB) as a revision to the California State Implementation Plan (SIP) and includes a maintenance plan for the 1997 8-hour ozone national ambient air quality standard. As a result of our adequacy findings, the San Diego Association of Governments and the U.S. Department of Transportation must use the MVEBs for future conformity determinations.

DATES: This finding is effective April 4, 2013.

FOR FURTHER INFORMATION CONTACT: John Ungvarsky, U.S. EPA, Region IX, Air Division AIR-2, 75 Hawthorne Street, San Francisco, CA 94105-3901, (415) 972-3963 or ungvarsky.john@epa.gov.

SUPPLEMENTARY INFORMATION: Throughout this document, whenever “we,” “us,” or “our” is used, we mean EPA.

Today's notice is simply an announcement of a finding that we have already made. EPA Region IX sent a letter to CARB on March 11, 2013 stating that the MVEBs in the submitted San Diego Ozone Redesignation Request and Maintenance Plan for the years of 2020 and 2025 are adequate. The adequate MVEBs are provided in the following table:

MVEBs in the San Diego Ozone Maintenance Plan
[Average summer day, tons per day]
Budget year | Volatile organic compounds | Oxides of nitrogen
2020 | 23 | 38
2025 | 21 | 30

Receipt of the MVEBs in the San Diego Ozone Redesignation Request and Maintenance Plan was announced on EPA's transportation conformity Web site on December 20, 2012. We received no comments in response to the adequacy review posting. The finding is available at EPA's transportation conformity Web site: http://www.epa.gov/otaq/stateresources/transconf/adequacy.htm.

Transportation conformity is required by Clean Air Act section 176(c). EPA's conformity rule requires that transportation plans, transportation improvement programs, and projects conform to SIPs and establishes the criteria and procedures for determining whether or not they do conform. Conformity to a SIP means that transportation activities will not produce new air quality violations, worsen existing violations, or delay timely attainment of the national ambient air quality standards.

The criteria by which we determine whether a SIP's MVEBs are adequate for conformity purposes are outlined in 40 CFR 93.118(e)(4) which was promulgated in our August 15, 1997 final rule (62 FR 43780, 43781-43783). We have further described our process for determining the adequacy of submitted SIP budgets in our July 1, 2004 final rule (69 FR 40004, 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: March 12, 2013.
Jared Blumenfeld,
Regional Administrator, Region IX.

[FR Doc. 2013-06404 Filed 3-19-13; 8:45 am]

BILLING CODE 6560-50-P